DEPARTMENT OF ENERGY

Federal Energy Regulatory Commission

[Docket No. EL14-30-000]

Midcontinent Independent System Operator, Inc. v. Southwest Power Pool; Notice of Complaint

Take notice that on February 18, 2014, pursuant to sections 206 and 212 of the Federal Energy Regulatory Commission's (Commission) Rules of Practice and Procedure, 18 CFR 385.206 and 385.212 and sections 206 and 306 of the Federal Power Act, 16 USC 824(e) and 825(e), Midcontinent Independent System Operator, Inc. (MISO or Complainant) filed a formal complaint against Southwest Power Pool (SPP or Respondent) alleging that the Respondent is violating its Open Access Transmission Tariff (Tariff) and the MISO-SPP Joint Operating Agreement by invoicing Complainant for certain transmission service. Among other things, Complainant requests the Commission issue an order directing SPP to cease issuing invoices to MISO for such service, including unreserved use penalties, under the SPP's Tariff.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 10, 2014.

Dated: February 19, 2014.
Kimberly D. Bose,
Secretary.

[FR Doc. 2014-04043 Filed 2-25-14; 8:45 am]

BILLING CODE 6717-01-P